DEPARTMENT OF JUSTICE

[AAG/A Order No. 022-2003]

Privacy Act of 1974; System of Records

Pursuant to the Privacy Act of 1974 (5 U.S.C. 552a), notice is given that the Department of Justice, Justice Management Division (JMD), proposes to modify a system of records entitled “Department of Justice Payroll System, Justice/JMD-003”, last published in full in the Federal Register on April 13, 1999 (64 FR 18054), and modified in the Federal Register on September 1, 2000 (65 FR 53225).

The Department proposes to modify the system of records, to make necessary updates and revisions, and to add one new routine use.

In accordance with 5 U.S.C. 552a (e)(4) and (11) the public is given a 30-day period in which to comment; and the Office of Management and Budget (OMB), which has oversight responsibility under the Privacy Act, requires a 40-day period in which to conclude its review of the system. Therefore, please submit any comments by February 2, 2004. The public, OMB and the Congress are invited to submit any comments to Mary Cahill, Management and Planning Staff, Justice Management Division, Department of Justice, Washington, DC, 20530 (Room 1400, National Place Building).

In accordance with 5 U.S.C. 552a (r), the Department has provided a report to OMB and the Congress.

Dated: December 23, 2003.
Paul R. Corts,
Assistant Attorney General for Administration.

Justice/JMD-003

System Name:

Department of Justice Payroll System, Justice/JMD-003.

System Location:

This system of records is managed by the Department of Justice (DOJ), Justice Management Division (JMD), Director, Personnel Staff, Washington, DC 20530. DOJ has contracted with the Department of Agriculture's National Finance Center (NFC) in New Orleans, Louisiana, 70129, to maintain payroll information and conduct payroll-related activities for its employees. Conversion to the NFC began in July of 1991 and was incrementally completed as of May of 1993. Payroll records in electronic or paper format may be found in the following locations:

a. Post-Conversion Records: On a computer maintained by the NFC in New Orleans, Louisiana; and at backup facilities in Philadelphia, Pennsylvania. Relevant data may also be stored on Justice Data Center computers or servers at the DOJ for use in distributing payroll and accounting information to the individual DOJ Bureaus and components. Paper and electronic payroll information may be kept at various time and attendance recording and processing stations around the world. Paper records may be located in the DOJ's Personnel Staff, Washington, DC 20530, in servicing personnel offices throughout the DOJ, and in the offices of employee supervisors and managers.

b. Pre-Conversion Historical Records: On magnetic tape at the Justice Data Center in Rockville, Maryland 20854; on microfiche maintained by the DOJ Finance Staff; and in paper format maintained by the DOJ's Finance and Personnel Staffs, servicing personnel offices, and offices of employee supervisors and managers.

Categories of Individuals Covered by the System:

Current and former DOJ employees, excluding the Federal Bureau of Investigation (FBI). The FBI employees are scheduled to be included starting in Pay Period 07, 2005.

Categories of Records in the System:

Any and all records essential to the conduct of payroll-related activities. Included may be:

• Personal identifying/personnel data;

• Time and attendance records;

• Leave records;

• Allotment or deduction information such as bonds, garnishments, health benefits, life insurance, Thrift Savings Plan (TSP), and other savings, retirement, and union dues;

• Travel and relocation information;

• Court orders to initiate garnishments;

• Check mailing and Direct Deposit / Electronic Funds Transfer information;

• Tax, withholding, and exemption information;

• Accounting and organization funding information;

• Salary, severance pay, award, and bonus information; active retirement records;

• Former employee pay records;

• Employee death records;

• Returned employee check and canceled salary payment records;

• Indebtedness records, e.g., overpayment of pay or travel.

Authority for Maintenance of the System:

5 U.S.C. 301, 5516, 5517, 5520; 26 U.S.C. 6011, 6109; 44 U.S.C. 3101.

Purpose(s):

This system of records is maintained to enable the DOJ to administer the payroll and payroll-related functions, and any other related financial matters, in accordance with applicable laws and regulations and the requirements of the General Accounting Office (GAO), the Office of Personnel Management (OPM), and the Federal Retirement Thrift Investment Board (FRTIB). It enables the DOJ to prepare and document payment to all DOJ employees entitled to be paid and to effect all authorized deductions from gross pay; to coordinate pay, leave and allowance operations with personnel functions and other related activities; meet internal and external reporting requirements; support investigations of fraud, the collection of debts, and litigation activities.

Routine Uses of Records Maintained in the System, Including Categories of Users and the Purposes of Such Uses:

Pursuant to subsection (b)(3) of the Privacy Act, the DOJ may disclose relevant and necessary data as follows:

In accordance with an interagency agreement, as provided for in Office of Management and Budget (OMB) implementing regulations (40 FR 28948), the DOJ may disclose records to the U.S. Department of Agriculture (USDA), National Finance Center (NFC), in order to effect all financial transactions on behalf of the DOJ related to employee pay.

Specifically, the NFC may effect employee pay or deposit funds on behalf of DOJ employees, and/or it may withhold, collect or offset funds from employee salaries as required by law or as necessary to correct overpayment or amounts due. For example, the NFC will routinely make the necessary disclosures to the Treasury Department for the issuance of payments; to Federal, State, and local authorities and the Social Security Administration for tax withholding; to OPM for retirement contributions; and, according to employee directions, to the appropriate financial institutions, charitable organizations, unions, health carriers, or other appropriate entities to effect such pay distributions as savings bonds, charitable contributions, allotments, alimony, child support, union dues, health and life insurance, and TSP contributions. In addition, the NFC will use the data to perform related administrative activities such as to certify payroll vouchers chargeable to DOJ funds; and either to perform or participate in routine audit/oversight operations of USDA/DOJ management and/or of GAO, OMB, OPM, and FRTIB; and to meet related reporting requirements.

In addition, where determined to be appropriate or necessary, the DOJ may disclose relevant records from this system as follows; or, DOJ may authorize the NFC to make the disclosure:

A. To Federal, State, or local housing authorities to enable these authorities to determine eligibility for low cost housing.

B. To heirs, executors and legal representatives of beneficiaries for estate settlement purposes.

C. To State and local courts of competent jurisdiction for the enforcement of child support, alimony, or both, pursuant to 41 U.S.C. 659.

D. To individuals, organizations, or agencies to enable such person, organization, or agency to determine the identity or location of a current or former Federal employee to collect debts owed, where collection of such debts are authorized (either by statute, implementing regulation, or order issued pursuant thereto) and the individual, organization, or agency, has provided sufficient evidence as will reasonably validate such claims, e.g., where a spouse or creditor seeking to obtain a garnishment of wages for such purposes as alimony and/or child support has provided a court order to substantiate the indebtedness. Information relevant to the request for such garnishment may include informing the individual, organization, or agency of the unavailability of funds where, for example, a currently active garnishment precludes the implementation of a further garnishment.

E. To the Office of Child Support Enforcement (OCSE), Administration for Children and Families, Department of Health and Human Services, any information specifically required by statute or implementing regulation or otherwise determined to be necessary and proper for OCSE's use (as outlined more specifically in relevant OCSE published Privacy Act systems of records) in locating individuals owing child support obligations, and in establishing and collecting child support obligations from such individuals, including enforcement action. Information disclosed may include: name, address, date of birth, date of hire, duty station, and social security number of the employee; the wages paid to the employee during the previous quarter; and the appropriate address and Federal Employer Identification Number of the Department of Justice.

F. To the appropriate Federal, State, or local agencies, e.g., to state unemployment agencies and/or the Department of Labor, to assist these agencies in performing their lawful responsibilities in connection with administering unemployment, workers' compensation, or other benefit programs; and similarly, to such agencies to obtain information that may assist the Department of Justice in performing its lawful responsibilities as they relate to such benefit programs.

G. To labor organizations recognized under 5 U.S.C. chapter 71, the home addresses or designated mailing addresses of bargaining unit members.

H. Where a record, either on its face or in conjunction with other information indicates a violation or potential violation of law—criminal, civil, or regulatory in nature—the relevant records may be referred to the appropriate Federal, State, local, foreign, or tribal, law enforcement authority or other appropriate agency charged with the responsibility of investigating or prosecuting such a violation or enforcing or implementing such law.

I. To the Internal Revenue Service (IRS) to obtain taxpayer mailing addresses for the purpose of locating such taxpayer to collect or compromise a Federal claim against the taxpayer.

J. To a person or organization with whom the head of the agency has contracted for collection services to recover indebtedness owed to the United States. Addresses of taxpayers obtained from the IRS will also be disclosed, but only where necessary to locate such taxpayer to collect or compromise a Federal claim.

K. To a Federal, State, local, or foreign agency or to an individual or organization if there is reason to believe that such agency, individual, or organization possesses information relating to the debt, the identity or location of the debtor, the debtor's ability to pay, or relating to any other matter which is relevant and necessary to the settlement, effective litigation and enforced collection of the debt, or relating to the civil action trial or hearing, and the disclosure is reasonably necessary to elicit such information or to obtain the cooperation of a witness or an agency.

L. To employers to effect salary or administrative offsets to satisfy a debt owed the United States by that person; or when other collection efforts have failed, to the IRS to effect an offset against an income tax refund otherwise due.

M. To the news media and the public pursuant to 28 CFR 50.2 unless it is determined that release of the specific information in the context of a particular case would constitute an unwarranted invasion of personal privacy.

N. To a Member of Congress or staff acting upon the Member's behalf when the Member or staff requests the information on behalf of, and at the request of, an individual who is the subject of the record.

O. To the General Services Administration and National Archives and Records Administration in records management inspections conducted under the authority of 44 U.S.C. 2904 and 2906.

P. In an appropriate proceeding before a court, or administrative or adjudicative body, when the Department of Justice determines that the records are arguably relevant to the proceeding; or in an appropriate proceeding before an administrative or adjudicative body when the adjudicator holds the records to be relevant to the proceeding.

Q. To an actual or potential party to litigation or the party's authorized representative for the purpose of negotiation or discussion on such matters as settlement, plea bargaining, or in informal discovery proceedings.

R. To contractors, grantees, experts, consultants, students, and others performing or working on a contract, service, grant, cooperative agreement, or other assignment for the Federal government, when necessary to accomplish an agency function related to this system of records.

S. To a former employee of the Department for purposes of: responding to an official inquiry by a Federal, State, or local government entity or professional licensing authority, in accordance with applicable Department regulations; or facilitating communications with a former employee that may be necessary for personnel-related or other official purposes where the Department requires information and/or consultation assistance from the former employee regarding a matter within that person's former area of responsibility.

Consistent with the foregoing routine use provisions, the Department may disclose records from this system of records for use in a computer matching program (as defined in the Privacy Act, 5 U.S.C. 552a (a)(8)). In accordance with the requirements of the Privacy Act, the public will be given advance notice in the Federal Register of the Department's participation in any such computer matching program(s).

In addition to the above routine use disclosures under subsection (b)(3) of the Privacy Act, the DOJ may make relevant and necessary disclosures as permitted by other Privacy Act disclosure provisions.

Finally, 31 U.S.C. 3711 requires that the notice required by the Privacy Act at 5 U.S.C. 552a (e)(4) must indicate that information in the system may be disclosed to a consumer reporting agency pursuant to subsection (b)(12). Such notice is provided as follows:

Notice of Disclosure to Consumer Reporting Agencies Under Subsection (b)(12) of the Privacy Act: Records relating to the identity of debtors and the history of claims may be disseminated to consumer reporting agencies to encourage payment of the past-due debt. Such disclosures will be made only when a claim is overdue and only after due process steps have been taken to notify the debtor and give him or her a chance to meet the terms of the debt.

(Any disclosures that may be made for debt collection purposes, whether made pursuant to subsection (b)(3) or (b)(12) of the Privacy Act, would be made only when all the relevant due process or procedural steps established by the relevant statutes and implementing regulations have been taken.)

Policies and Practices for Storing, Retrieving, Accessing, Retaining and Disposing of Records in the System:

Storage:

Records are stored on disks, magnetic tapes, microfiche, paper, and direct access storage device (DASD).

Retrievability:

Records are retrieved by name or social security number.

Safeguards:

Access to premises where records are stored is restricted via building passes and security guards. Access to all records is supervised and restricted to those employees with a need to know. In addition, access to computerized records is protected by encryption, password, and appropriate user ID's. Access to terminals is limited to persons with terminal identification numbers. These numbers are issued only to employees who have a need to know in order to perform job functions relating to personnel and payroll matters.

Retention and Disposal:

Records are disposed of in accordance with General Records Schedule No. 2 issued by the National Archives and Records Administration.

System Manager(s) and Address:

Director, Personnel Staff, Justice Management Division, Department of Justice, National Place Building, Room 1110, 1331 Pennsylvania Avenue, NW., Washington, DC 20530.

Notification Procedure:

The individual may address inquiries to the servicing personnel office of the Department component(s) by which he/she is or was employed. Address of Department components may be found in Appendix I, to part 16 of 28 Code of Federal Regulations. Updated listings are available on the DOJ Web site on the Internet (http://www.usdoj.gov/). The individual may also address his/her request to the System Manager named above.

Record Access Procedure:

A request for access to a record must be made in writing to the System Manager named above, with the envelope and letter clearly marked “Privacy Act Access Request.” The request should include a general description of the records sought. Include in the request the full name of the requester, his or her current address, and date and place of birth, with notarized signature or dated signature submitted under penalty of perjury (28 CFR 16.41(d)).

Contesting Record Procedure:

Individuals desiring to contest or amend information maintained in the system should direct their request according to the Record Access procedures listed above, stating clearly and concisely what information is being contested, the reasons for contesting it, and the proposed amendment to the information sought. Some information is not subject to amendment, such as tax return information.

Record Source Categories:

Individuals covered by the system; agency records; financial institutions or employee organizations; previous Federal employers; consumer reporting agencies; debt collection agencies; and the courts.

Exemptions Claimed for the System:

None.

[FR Doc. 03-32292 Filed 12-31-03; 8:45 am]

BILLING CODE 4410-CP-P